DEPARTMENT OF DEFENSE

Office of the Secretary

[Docket ID: DOD-2016-OS-0056]

National Environmental Policy Act Implementing Procedures

AGENCY: Defense Threat Reduction Agency/USSTRATCOM Center for Combating Weapons of Mass Destruction, Department of Defense.

ACTION: Final guidance.

SUMMARY: The Defense Threat Reduction Agency/USSTRATCOM Center for Combating Weapons of Mass Destruction (DTRA/SCC-WMD or the Agency) is issuing procedures to implement the National Environmental Policy Act (NEPA), Executive Order (E.O.) 11514, and Council on Environmental Quality (CEQ) regulations for implementing the procedural provisions of NEPA.

DATES: This final guidance is effective on September 6, 2016.

FOR FURTHER INFORMATION CONTACT: Ms. Sherry Davis, Director, Environment, Safety, and Occupational Health Department, at (703) 767-7122 or by email at sherry.j.davis3.civ@mail.mil.

SUPPLEMENTARY INFORMATION: On Thursday, May 5, 2016 (81 FR 27107-27122), the Department of Defense published proposed guidance titled “National Environmental Policy Act Implementing Procedures” for a 30-day public comment period. The public-comment period ended on June 6, 2016. No public comments were received.

Further administrative edits were made to the final guidance. References to “J4/8C” were changed to “J4/8”, and references to the Environment, Safety, and Occupational Health (ESOH) Team Web site were removed throughout the final guidance.

DTRA/SCC-WMD is a combat support agency that counters weapons of mass destruction (WMD). DTRA/SCC-WMD keeps WMD out of the hands of terrorists and other enemies by locking down, monitoring, and destroying weapons and weapons-related material, assists with plans and responses to WMD events, and develops and delivers cutting-edge technologies to assist with these endeavors.

As a Department of Defense (DoD) agency, the DTRA/SCC-WMD does not own real property. Most agency actions typically occur on host military service installations or ranges, or other Federal agency properties. DTRA/SCC-WMD formerly relied upon host installation NEPA implementing procedures, including categorical exclusions to address potential environmental impacts of agency actions. With the issuance of CEQ guidance “Establishing, Applying, and Revising Categorical Exclusions under the National Environmental Policy Act” (Nov. 23, 2010) and after consulting with CEQ and other similar DoD components, DTRA/SCC-WMD determined the need to establish NEPA implementing procedures and categorical exclusions specific to DTRA/SCC-WMD projects and actions. The information assembled while developing categorical exclusions is described in the “DTRA/SCC-WMD Administrative Record for Supporting Categorical Exclusions” and is available on the DTRA/SCC-WMD Web site at: http://www.dtra.mil/Home/NEPA.aspx.

The categorical exclusions describe the categories of actions that DTRA/SCC-WMD determined to normally not individually or cumulatively have significant impact on the environment. These and the other implementing procedures will serve as the agency's guide for complying with the requirements of NEPA for DTRA/SCC-WMD actions.

The text of the complete DTRA/SCC-WMD NEPA implementing procedures can be found on the DTRA/SCC-WMD Web site at: http://www.dtra.mil/Home/NEPA.aspx and in this document.

Dated: August 31, 2016.
Aaron Siegel,
Alternate OSD Federal Register Liaison Officer, Department of Defense.

Table of Contents

1. Purpose

2. Applicability

3. Policy

4. Responsibilities

5. Environmental Planning & Analysis

(a) Record of Environmental Review

(b) Categorical Exclusion (CATEX)

(c) Environmental Assessment (EA)

(d) Finding of No Significant Impact (FONSI)

(e) Environmental Impact Statement (EIS)

(f) Record of Decision (ROD)

6. Mitigation and Monitoring

7. Subsequent Analyses

(a) Tiering and Programmatic Review

(b) Supplemental EAs/EISs

(c) Adoption of EAs/EISs

8. Actions on Host Installations/Actions Abroad

(a) Actions on Host Installations

(b) Actions Occurring Abroad

9. Classified Actions

10. Administrative Record

11. Glossary

(a) Abbreviations and Acronyms

(b) Definitions

Appendix A: The NEPA Process

Appendix B: Categorical Exclusions (CATEXs)

Appendix C: Record of Environmental Consideration (REC)

Appendix D: Notice of Intent (NOI)

Appendix E: Notice of Availability (NOA)

Appendix F: Record of Decision (ROD)

Defense Threat Reduction Agency/USSTRATCOM Center for Combating Weapons of Mass Destruction NEPA Implementing Procedures

1. Purpose

Pursuant to DTRA/SCC-WMD Instruction 4715.5, “Environmental Compliance” (Aug. 22, 2014), this guide identifies requirements and provides procedures for implementing the provisions of the National Environmental Policy Act (NEPA) in accordance with Council on Environmental Quality Regulations for Implementing the Procedural Provisions of the National Environmental Policy Act, 40 CFR parts 1500-1508, and E.O. 12114, “Environmental Effects Abroad of Major Federal Actions” (Jan. 4, 1979). It supplements 40 CFR parts 1500-1508 and E.O. 12114 by establishing policy, responsibilities, and procedures for fully considering environmental consequences of proposed actions, preparing necessary documentation for actions with the potential for significant environmental impact, and demonstrating transparency in decision-making.

DTRA/SCC-WMD does not own real property or undertake projects or programs where actions are planned or funded by private applicants or other non-Federal entities. Therefore, this guide does not include provisions to account for such actions.

2. Applicability

The requirements and procedures of this guide apply to all entities of DTRA/SCC-WMD and its executing agents.

3. Policy

It is DTRA/SCC-WMD policy to:

(a) Integrate environmental consideration into all Agency/Center activities at the earliest possible planning stage, make decisions considering environmental consequences, assess a range of reasonable alternative actions, and take actions that protect, restore, and enhance the environment.

(b) Prepare all necessary documentation required under NEPA and 40 CFR parts 1500-1508 whenever acting as the proponent or lead agency for a proposed action that has the potential for significant environmental impact.

(c) Serve as a cooperating agency for activities in which DTRA/SCC-WMD participates but is not the proponent or lead agency and provide full cooperation and necessary technical expertise and documentation to the lead agency as requested.

(d) Use programmatic and tiered analyses, when possible, to eliminate redundancies in future project/program analyses, effectively evaluate cumulative environmental effects, and reduce mission delays.

(e) Periodically (at least every 7 years) review the effectiveness of its NEPA procedures including responsibilities, implementing procedures, and categorical exclusions (CATEXs), and when new information or circumstances warrant, review the currency of existing Programmatic Environmental Impact Statements (EISs) and Programmatic Environmental Assessments (EAs).

(f) Involve the public in preparing and executing its NEPA procedures, and publish NEPA implementing procedures, CATEXs, and other relevant NEPA documentation as appropriate on the DTRA/SCC-WMD public Web site.

(g) Prepare NEPA documentation and procedures that are written in plain language so that decision-makers and the public can readily understand them.

(h) To the fullest extent possible, integrate NEPA requirements with other environmental review and consultation requirements including, but not limited to, Clean Water Act, Clean Air Act, Endangered Species Act, National Historic Preservation Act, Resource Conservation and Recovery Act, and Comprehensive Environmental Response, Compensation, and Liability Act.

(i) Eliminate duplication with State and local procedures by providing for, as appropriate, joint planning processes and, where appropriate, joint preparation of NEPA reviews (analyses and documentation).

(j) Eliminate duplication with other Federal procedures by jointly preparing NEPA reviews, or adopting other agencies' EAs and EISs, or incorporating by reference material into an EA or EIS where appropriate.

(k) Comply with host installation NEPA requirements in addition to the requirements set forth in this guide. Equivalent host installation documentation may be used to satisfy DTRA/SCC-WMD documentation requirements.

4. Responsibilities

(a) Director, DTRA/SCC-WMD (J0)

The J0 has final approval and signature authority of EIS Records of Decision (RODs) generated by DTRA/SCC-WMD or its contractors. This authority may be delegated as deemed appropriate by the J0.

(b) Joint Director (JDIR), Acquisition, Finance, and Logistics (J4/8)

The JDIR, J4/8 monitors the effective implementation of these procedures through the Director, Environment, Safety, and Occupational Health (ESOH) Department (J4E) and hereby appoints the Director, J4E as the principal Agency/Center advisor on NEPA-related requirements.

(c) Director, J4E

The Director, J4E as the principal Agency advisor on NEPA-related requirements:

(1) Provides guidance to Project/Program Managers as necessary on the requirements in this guide and maintains direct oversight of the NEPA process.

(2) Reviews project proposals to determine NEPA applicability and requirements, and provides qualified personnel to support Project/Program Managers with NEPA compliance.

(3) Performs environmental compliance reviews of EISs/RODs, EAs/Findings of No Significant Impact (FONSIs), and Records of Environmental Consideration (RECs) generated by DTRA/SCC-WMD or its contractors and provides initial approval by signature as the compliance authority.

(4) When DTRA/SCC-WMD serves as a cooperating agency for activities in which it participates but is not the proponent or lead, reviews and approves NEPA documents as requested by the lead agency.

(5) Maintains an organized administrative record of all NEPA documents generated by DTRA/SCC-WMD or its contractors, including documentation supporting Agency/Center CATEXs.

(6) Represents DTRA/SCC-WMD in NEPA-related matters with external organizations.

(7) Ensures required NEPA mitigation measures are documented in the administrative record, performed, and monitored.

(d) Office of the General Counsel (J0GC)

The J0GC provides a legal review of EISs, RODs, EAs, and FONSIs generated by DTRA/SCC-WMD or its contractors.

(e) Governmental and Public Affairs Office (J0XG)

The J0XG:

(1) Assists Project/Program Managers with engaging the public for scoping meetings, accepting comments, providing adjudications, outreach efforts, and other related interactions.

(2) Coordinates the public release of DTRA/SCC-WMD NEPA documentation using various mediums including local newspapers, DTRA/SCC-WMD's public Web sites, and the Federal Register (FR).

(3) Approves, signs, and publishes Notices of Intent (NOI) and Notices of Availability (NOA).

(f) Directorate JDIRs/Staff Office Chiefs/SCC-WMD Divisions

The Directorate JDIRS/Staff Office Chiefs/SCC-WMD Divisions:

(1) Integrate environmental considerations early in the planning stages of all Directorate/Staff Office/SCC-WMD Division activities with adequate time to ensure NEPA requirements can be met.

(2) Provide project proposals to the Director, J4E for any planned DTRA/SCC-WMD activity with potential for environmental impact.

(3) Provide necessary funding to satisfy NEPA requirements for Directorate/Staff Office/SCC-WMD Division activities subject to compliance.

5. Environmental Planning & Analysis

(a) Record of Environmental Review

(1) A flowchart outlining the general NEPA process can be found in Appendix A.

(2) As early in the planning process as possible, the Project/Program Manager of a proposed action must provide to the J4E a project proposal by completing the top section of a REC (found in Appendix C) with information regarding the scope of the activity.

(3) A REC is used to document the environmental analysis for an activity. The REC could indicate that a CATEX applies and there are no extraordinary circumstances requiring further analysis; that the activity is covered under a previous analysis (EA/EIS) and further analysis is not required, or that additional analysis is needed (EA/EIS).

(4) Based on conclusions of the initial environmental analysis, additional analysis may be required. Project/Program Managers must also comply with other applicable statutory or regulatory requirements set out in DTRA/SCC-WMD Instruction 4715.5, including but not limited to environmental permits, consultations, and approvals such as those required for actions affecting federally-listed threatened or endangered species or their designated critical habitat, historic and cultural preservation, safe drinking water requirements, as well as other applicable state, DoD, or local regulatory requirements.

(b) Categorical Exclusion (CATEX)

(1) A CATEX is a category of Agency/Center actions which have been determined to normally not individually or cumulatively have significant impact on the environment and therefore neither an EA nor EIS is required. Project/Program Managers may use a CATEX for a proposed action with approval from the J4E when there are no extraordinary circumstances that warrant further analysis in an EA or EIS. (i) A list of approved CATEXs can be found in Appendix B. DTRA/SCC-WMD must not use a CATEX that is not listed in the appendix. Proposals for additional CATEXs must be submitted to and approved by the J4E and CEQ, be reviewed through a public comment period, and be supported by appropriate substantiating documentation such as an EA/FONSI, impact demonstration projects, or information from professional staff, expert opinions, and scientific analyses. (ii) Extraordinary circumstances are also listed in Appendix B following the list of CATEXs.

(2) If a CATEX applies, the J4E will document use of the specific CATEX on the REC, and the action may proceed. The REC should document any determination and conclusion where the issue of whether an extraordinary circumstance requires further review has been resolved. This determination can be made using current information and expertise, if available and adequate, or can be derived through conversation, as long as the basis for the determination is included in the REC. Copies of appropriate interagency correspondence can be attached to the REC. Example conclusions regarding screening criteria are as follows: (i) “U.S. Fish and Wildlife Service concurred in informal coordination that endangered or threatened species will not be adversely affected.” (ii) “Corps of Engineers determined action is covered by nationwide general permit.” (iii) “State Historic Preservation Officer concurred with action.” (iv) “State Department of Natural Resources concurred that no adverse effects to state sensitive species are expected.”

(3) If a CATEX does not apply, either by not including the proposed action or due to extraordinary circumstances, and the action is not covered under an existing document, then an EA or EIS must be prepared unless the proposed action is not further considered.

(4) To use a CATEX, the proponent must satisfy the following three screening conditions: (i) The action has not been segmented. Determine that the proposed action has not been segmented to meet the definition of a CATEX and fits within the category of actions described in the CATEX. Segmentation can occur when an action is broken down into small parts in order to avoid the appearance of significance of the total action. An action can be too narrowly defined, minimizing potential impacts in an effort to avoid a higher level of NEPA documentation. The scope of an action must include the consideration of connected actions, and the effects when applying extraordinary circumstances must consider cumulative impacts. (ii) No exceptional circumstances exist. Determine if the action involves extraordinary circumstances that would preclude the use of a CATEX (see Appendix B). (iii) One CATEX encompasses the proposed action. Identify a CATEX that encompasses the proposed action (see Appendix B). If multiple CATEXs could be applicable, proceed when it is clear that the entire proposed action is covered by one CATEX. Any limitation in any potentially applicable CATEX should be considered when determining whether it is appropriate to proceed without further analysis in an EA or EIS.

(c) Environmental Assessment (EA)

(1) An EA is a concise public document used to provide sufficient evidence and analysis for determining whether to prepare an EIS or FONSI or to comply with NEPA when an EIS is not necessary.

(2) The EA must include, at a minimum, the following: (i) Cover page, which identifies the proposed action and the geographic location. (ii) Purpose and need for the proposed action or activity. (iii) Description of the proposed action with sufficient detail in terms that are understandable to readers that are not familiar with DTRA/SCC-WMD activities. (iv) Discussion of alternative actions considered, including the preferred action and a “no action” alternative. There is no requirement for a specific number of alternatives or a specific range of alternatives to be included in an EA. An EA may limit the range of alternatives to the proposed action and no action when there are no unresolved conflicts concerning alternative uses of available resources. For alternatives considered but eliminated from further study, the EA should briefly explain why these were eliminated. (v) Description of the affected environment. (vi) Analysis of the potential environmental impacts of the proposed action and alternatives. The EA must discuss, in comparative form, the reasonably foreseeable environmental impacts of the proposed action, the no action alternative, and any other reasonable alternatives necessary to address unresolved conflicts concerning the alternative use of resources. The discussion of environmental impacts must focus on substantive issues and provide sufficient evidence and analysis to support a FONSI unless a determination to prepare an EIS is made. (vii) Identification of any permits, licenses, approvals, reviews, or applicable special purpose laws. Although the NEPA process does not preclude separate compliance with these other requirements, DTRA/SCC-WMD will integrate applicable environmental review, consultation, and public involvement requirements under special purpose laws and requirements into its NEPA planning and documentation to reduce paperwork and delay. (viii) List of preparers, agencies, and persons consulted. (ix) Signature of the preparer(s) and the Director, J4E. (x) References and appendices. The appendices may include: (A) References that support statements and conclusions in the body of the EA, including methodologies used. Proper citations and, when available, hyperlinks to reference materials should be provided; (B) Evidence of coordination or required consultation with affected Federal, state, tribal, and local officials and copies or a summary of their comments or recommendations and the responses to such comments and recommendations; and (C) A summary of public involvement, including a summary of issues raised at any public hearing or public meeting.

(3) The analysis of potential environmental impacts (item (c)(2)(vi) above) will include an assessment of the direct, indirect, and cumulative impacts that can reasonably be expected from taking the proposed action or alternatives, and the analysis should address substantive comments raised by interested Federal agencies, non-Federal agencies, and private parties. (i) When direct or indirect impacts exist, the EA must consider cumulative impacts. Cumulative impacts are impacts on the environment resulting from the incremental impact of the action when added to other past, present, and reasonably foreseeable future actions. (ii) Actions by Federal agencies, non-Federal agencies, and private parties must be included when considering cumulative impacts.

(4) DTRA/SCC-WMD must coordinate, as appropriate, preparation of the EA with other agencies (Federal, state, local, or tribal governments) when the action involves resources they manage or protect, and will invite agencies with jurisdiction by law or with special expertise to participate as cooperating agencies. (i) Agencies with jurisdiction by law are those with the authority to grant permits for implementing actions, approve or veto portions of the proposed action, or finance a portion of the proposed action. Federal agencies with jurisdiction by law must be a cooperating agency. Non-federal agencies may be invited. (ii) Agencies with special expertise are those that have the expertise needed to help meet a statutory responsibility, to carry out in part the DTRA/SCC-WMD mission, or in the proposed actions' relationship to the objectives of regional, state, or local land use plans, policies, and controls. Federal and non-federal agencies may be invited.

(5) DTRA/SCC-WMD must involve the public, to the extent practicable, in preparing EAs. (i) The appropriate level of involvement will vary based on the proposed action. A public scoping meeting, as described in 40 CFR 1501.7, is not required for an EA but is optional. Scoping can be particularly useful when an EA deals with uncertainty or controversy regarding potential conflicts over the use of resources or the environmental impacts of the proposed actions. The scoping process can provide a transparent way to identify environmental issues, focusing the analysis on the most pertinent issues and impacts. (ii) A draft EA should be circulated for 30 days of public comment and, if applicable, with the unsigned proposed FONSI, per paragraph (d)(7) of the FONSI provisions below. The length of comment period may be adjusted based on mission requirements.

(6) DTRA/SCC-WMD will use the conclusions of an EA to determine whether to issue a FONSI or an NOI to prepare an EIS (found in Appendix D).

(d) Finding of No Significant Impact (FONSI)

(1) A FONSI is a document that briefly presents the reasons why a proposed action will not have a significant effect on the human environment and for which an EIS therefore will not be prepared. It must include the EA or a summary of it and note any other environmental documents related to it.

(2) Mitigated FONSIs are appropriate where the J4E and Project/Program Manager, or other decision-maker for the project/program determine that mitigation measures can reduce potentially significant adverse impacts below the level of significance. These mitigation measures may be used to support a FONSI, provided that: (i) The relevant areas of environmental concern are identified in the EA; (ii) The EA supports the Agency's determination that the potential impacts, including the impacts of any mitigation commitments, will be insignificant; and (iii) The Agency has identified mitigation measures that will be sufficient to reduce potential impacts below applicable significance thresholds and has ensured commitments to implement these measures.

(3) Mitigation that is used to support a mitigated FONSI must be included as a condition of project approval. In these cases, if DTRA/SCC-WMD's decision to act is not otherwise evidenced by a final decision document such as a rule, license, or approval, the J4E and the Project Manager or other decision-maker for the project/program must document the decision in the conclusion of the FONSI. The decision must identify those mitigation measures DTRA/SCC-WMD is adopting and identify any monitoring and enforcement program applicable to such measures (see Section 6: Mitigation and Monitoring).

(4) A FONSI or Mitigated FONSI must document, in plain writing, the reasons why an action, not otherwise categorically excluded, would not have a significant impact on the human environment. The FONSI documents the basis for the determination that the proposed action would not have significant environmental impacts and the decision to implement the proposed action. The FONSI may be attached to an EA, or the EA and FONSI may be combined into a single document. If the FONSI is attached or combined with the EA, it need not repeat the discussion in the EA. If the FONSI is not attached or combined with the EA, the FONSI must include a summary of the EA and note any other environmental documents related to it. The FONSI must: (i) Briefly describe the proposed action, the purpose and need, and the alternatives considered (including the no action alternative), and assess and document all relevant matters necessary to support the conclusion that the proposed action would not significantly affect the quality of the human environment; (ii) Determine the proposed action's consistency or inconsistency with community planning, and document the basis for the determination; (iii) Present any mitigation measures that are a condition of project approval. The FONSI should also reflect coordination of mitigation commitments (including any applicable monitoring program) with, and consent and commitment from, those entities with the authority to implement specific mitigation measures committed to in the FONSI; and (iv) Reflect compliance with all applicable environmental requirements, including interagency and intergovernmental coordination and consultation, public involvement, and documentation requirements. Findings and determinations required under special purpose laws and requirements, regulations, and orders, if not made in the EA, must be included in the FONSI. (v) If the FONSI is prepared following adoption of all or part of another agency's NEPA document, the FONSI must identify the part(s) of the document being adopted and include documentation of DTRA/SCC-WMD's independent evaluation of the document.

(5) All FONSIs must include the following approval statement: After careful and thorough consideration of the facts contained herein, the undersigned finds that the proposed Federal action is consistent with existing national environmental policies and objectives as set forth in Section 101 of NEPA and other applicable environmental requirements and will not significantly affect the quality of the human environment.

APPROVED:

DATE:

(6) Following preparation of the FONSI, the Project/Program Manager reviews and signs the FONSI. Issuance of a FONSI signifies that DTRA/SCC-WMD will not prepare an EIS and has completed the NEPA process for the proposed action. Following the approval of a FONSI, the Project/Program Manager may decide whether to take or approve the proposed action. Mitigation measures that were made as a condition of approval of the FONSI must be incorporated in the decision to implement the action.

(7) The J0XG in coordination with the Project/Program Manager will publish an NOA (found in Appendix E) with local media to open a 30-day public comment period for the final draft EA and unsigned proposed FONSI. For actions with national interest, J0XG shall also publish the NOA in the FR. The length of comment period may be adjusted based on mission requirements.

(8) After closure of the public comment period, the Project/Program Manager in coordination with the J4E will adjudicate the comments received and update the EA as necessary. The Project/Program Manager in coordination with the J4E will decide to prepare an EIS, or terminate the proposed action.

(9) Upon completing the adjudication, the final FONSI will be signed by the J4E and Project/Program Manager or other decision-maker for the project/program, and the action may proceed.

(10) The J0XG will make the final EA and signed FONSI available to the public and post on DTRA/SCC-WMD's public Web site. (i) A copy of the FONSI and EA should be sent to reviewing agencies and organizations or individuals who made substantive comments or specifically requested copies. (ii) When a project involves a resource protected under a special purpose law or requirement, or other directive, the J0XG will send a signed copy of the FONSI and the EA supporting it to the agency(ies) with whom DTRA/SCC-WMD consulted to comply with the applicable law or directive and to any party requesting copies of those documents.

(e) Environmental Impact Statement (EIS)

(1) When a proposed action has the potential for significant environmental impact or when an EA does not result in a FONSI, an EIS will be prepared to examine the potential impacts of the proposed action, reasonable alternatives, and measures to mitigate those effects.

(2) Prior to preparing an EIS, the Project/Program Manager in coordination with J0XG will publish an NOI (Appendix D) in the FR to initiate preparation of the EIS. (i) The NOI includes an overview of the proposed action, any reasonable alternatives being considered (including no action), and known potential environmental impacts associated with the action. If the NOI is also used to satisfy public notice and comment requirements of other environmental requirements in addition to NEPA that are applicable to the proposed action, the NOI should include a statement to that effect with a reference to the applicable laws, regulations, or Executive Orders. (ii) The NOI will also identify a DTRA/SCC-WMD point of contact who can provide additional information about the action and to whom comments should be sent. (iii) There will be a public scoping period of 30 days from the date of publication of the NOI in the FR to allow other interested agencies and the public to provide input and comments. If a scoping meeting is planned and sufficient information is available at the time of the NOI, the NOI should also announce the meeting, including the meeting time and location, and other appropriate information such as availability of a scoping document.

(3) The Project/Program Manager must host a public EIS scoping meeting to identify the range of actions, alternatives, and impacts to consider for analysis. Scoping is a required part of the EIS process. Scoping is an early and open process for determining the scope of issues to be addressed in the EIS and identifying the significant issues related to a proposed action. The Project/Program Manager shall tailor the scoping processes to match the complexity of the proposal. (i) DTRA/SCC-WMD representatives must include at a minimum the Project/Program Manager, the J4E, and program subject matter experts. The Project/Program Manager will also invite interested members of the public and representatives from cooperating organizations, and may include other participants as necessary. (ii) Scoping serves additional purposes such as identifying those issues that do not require detailed analysis or that have been covered by prior environmental review, setting the temporal and geographic boundaries of the EIS, determining reasonable alternatives, and identifying available technical information. (iii) The Project/Program Manager with assistance from the J4E must take the lead in the scoping process, inviting the participation of potentially affected Federal, state, and local agencies, any potentially affected tribes, and other interested persons (including those who might oppose the proposed action).

(4) An EIS must include the following components presented in the standard EIS format in accordance with 40 CFR parts 1500-1508: (i) A cover page that includes: (A) A list of the responsible lead and cooperating agencies (identifying the lead agency); (B) The title of the proposed action together with the state(s) and county(ies) where the action is located; (C) The name, address, and telephone number of the responsible DTRA/SCC-WMD official; (D) The designation of the statement as draft, final, or supplement; (E) A one paragraph abstract of the EIS; and (F) For draft EISs, a statement that this EIS is submitted for review pursuant to applicable public law requirements. (ii) An executive summary that adequately and accurately summarizes the EIS. The summary describes the proposed action, stresses the major conclusions, areas of controversy (including issues raised by agencies and the public), and the issues to be resolved (including the choice among alternatives). It also discusses major environmental considerations and how these have been addressed, summarizes the analysis of alternatives, and identifies the agency preferred alternative. It discusses mitigation measures and any monitoring. (iii) A table of contents that lists the chapters and exhibits (including figures, maps, and tables) presented throughout the EIS. It will also list any appendices, acronym list, glossary, references, and index. (iv) A Purpose and Need section that briefly describes the underlying purpose and need for the Federal action. It presents the problem being addressed and describes what DTRA/SCC-WMD is trying to achieve with the proposed action. It provides the parameters for defining a reasonable range of alternatives to be considered. The purpose and need for the proposed action must be clearly explained and stated in terms that are understandable to individuals who are not familiar with DTRA/SCC-WMD activities. Where appropriate, the responsible DTRA/SCC-WMD official should initiate early coordination with cooperating agencies in developing purpose and need. (v) An Alternatives section that includes the proposed action. This section is the heart of the EIS. It presents a comparative analysis of the no action alternative, the proposed action, and other reasonable alternatives to fulfill the purpose and need for the action, to sharply define the issues, and provide a clear basis for choice among alternatives by the approving official. Whether a proposed alternative is reasonable depends, in large part, upon the extent to which it meets the purpose and need for the proposed action. Reasonable alternatives not within the jurisdiction of the lead agency should be considered. DTRA/SCC-WMD may include alternatives proposed by the public or another agency. However, they must meet the basic criteria for any alternative: It must be reasonable, feasible, and achieve the project's purpose. The extent of active participation in the NEPA process by the proponent of the alternative also bears on the extent to which a preferred alternative deserves consideration. Charts, graphs, and figures, if appropriate, may aid in understanding the alternatives. To provide a clear basis of choice among the alternatives, graphic or tabular presentation of the comparative impact is recommended. This section also presents a brief discussion of alternatives that were not considered for detailed analysis (e.g., because they do not meet the purpose and need for the proposed action). The draft EIS must identify the preferred alternative or alternatives, if one or more exists at the time the draft EIS is issued. The final EIS must specifically and individually identify the preferred alternative. Criteria other than those included in the affected environment and environmental consequences sections of the EIS may be applied to identify the preferred alternative. Although CEQ encourages Federal agencies to identify the environmentally-preferred alternatives in the EIS, the CEQ Regulations do not require that discussion until the ROD. (vi) An affected environment section that describes the environmental conditions of the potentially affected geographic area or areas. The discussion of the affected environment should be no longer than is necessary. It should include detailed discussion of only those environmental impact categories affected by the proposed action or any reasonable alternatives to demonstrate the likely impacts; data and analyses should be presented in detail commensurate with the importance of the impact. To ensure that this section emphasizes the important aspects of the impacts on the environment, the discussion should summarize and incorporate by reference information or analysis that is reasonably available to the public. This section may include the following, if appropriate: (A) Location map, vicinity map, project layout plan, and photographs; (B) Existing and planned land uses and zoning, including: industrial and commercial growth characteristics in the affected vicinity; affected residential areas, schools, places of outdoor assemblies of persons, churches, and hospitals; public parks, wildlife and waterfowl refuges; federally listed or proposed candidate, threatened, or endangered species or federally designated or proposed critical habitat; wetlands; national and state forests; floodplains; farmlands; coastal zones, coastal barriers, or coral reefs; recreation areas; wilderness areas; wild and scenic rivers; Native American cultural sites, and historic and archeological sites eligible for or listed on the National Register of Historic Places; (C) State or local jurisdictions affected by the proposed action or any reasonable alternatives; (D) Population estimates and other relevant demographic information for the affected environment, including a census map where appropriate; and (E) Past, present, and reasonably foreseeable future actions, whether Federal or non-Federal, including related or connected actions to show the cumulative effects of these actions on the affected environment. (vii) An environmental consequences section, which forms the scientific and analytical basis for comparing the proposed action, the no action alternative, and other alternatives retained for detailed analysis. (A) The discussion of environmental consequences will include the environmental impacts of the alternatives including the proposed action; any adverse environmental impacts that cannot be avoided should the proposed action or any of the reasonable alternatives be implemented; the relationship between short-term uses of man's environment and the maintenance and enhancement of long-term productivity; any irreversible or irretrievable commitments of resources that would be involved in the proposed action or any reasonable alternatives should they be implemented; and mitigation. It must include considerations of direct, indirect, and cumulative impacts and their significance and possible conflicts with the objectives of Federal, regional, state, tribal, and local land use plans, policies, and controls for the area concerned and other unresolved conflicts. To avoid excessive length, the environmental consequences section may incorporate by reference background data to support the impacts analysis. 40 CFR 1502.22 sets forth requirements for addressing situations in which information for assessing reasonably foreseeable significant adverse impacts is incomplete or unavailable. (B) Specific environmental impact categories must be discussed to the level of detail necessary to support the comparisons of impacts of each alternative retained for detailed analysis, including the no action alternative. The section should include the information required to demonstrate compliance with other applicable requirements and should identify any permits, licenses, other approvals, or reviews that apply to the proposed action or any reasonable alternatives, and indicate any known problems with obtaining them. This section should also provide the status of any interagency or intergovernmental consultation required, for example, under the National Historic Preservation Act, 16 U.S.C. 470-470x-6, the Endangered Species Act, 16 U.S.C. 1531-1544, the Coastal Zone Management Act, 16 U.S.C. 1451-1466, the American Indian Religious Freedom Act, 42 U.S.C. 1996, Executive Order 13084, Consultation and Coordination with Indian Tribal Governments, 63 Federal Register 27655 (May 14, 1998), the Wild and Scenic Rivers Act, 16 U.S.C. 1271-1287, and the Fish and Wildlife Coordination Act, 16 U.S.C. 661-667d. (viii) An EIS must describe mitigation measures considered or planned to minimize harm from the proposed action and reasonable alternatives. The EIS must discuss mitigation in sufficient detail to disclose that the environmental consequences have been fairly evaluated. Mitigation incorporated into project design must be clearly described in the proposed action and any reasonable alternatives. Environmental impacts resulting from mitigation must be considered in the EIS, when applicable. (A) The following types of mitigation measures should be considered: design and construction actions to avoid or reduce impacts; management actions that reduce impacts during operation of the facility; and replacement, restoration (reuse, conservation, preservation, etc.), and compensation measures. (B) Electronic data collection, tracking, and analysis may be useful in the consideration of appropriate mitigation measures. The DTRA/SCC-WMD ESOH Management System may also be used for tracking and monitoring mitigation commitments. (C) Mitigation and other conditions established in the EIS, or during review of the EIS, and that are committed to in the ROD, must be implemented by DTRA/SCC-WMD or another appropriate entity with authority to implement the identified mitigation measures or other conditions. DTRA/SCC-WMD ensures implementation of such mitigation measures through special conditions, funding agreements, contract specifications, directives, other review or implementation procedures, and other appropriate follow-up actions in accordance with 40 CFR parts 1500-1508. (ix) The EIS must list the preparers of the NEPA document, including the names, and qualifications (e.g., expertise experience, professional disciplines) of DTRA/SCC-WMD staff that were primarily responsible for preparing the EIS or significant background material, and contractors who assisted in preparing the EIS or associated environmental studies. (x) The EIS must contain a list of agencies, organizations, and persons to whom copies of the EIS are sent. This list is included for reference and to demonstrate that the EIS is being circulated, and thus, that the public review process is being followed. (xi) An index that reflects the key terms used throughout the EIS for easy reference. The index must include page numbers for each reference. (xii) An EIS must include appendices, if necessary. This section consists of material that substantiates any analysis that is fundamental to the EIS, but would substantially contribute to the length of the EIS or detract from the document's readability, if included in the body of the EIS. This section should contain information about formal and informal consultation conducted and related agreement documents prepared, pursuant to other special purpose laws and requirements. (xiii) The Final EIS must assess and respond to comments received on the draft EIS. (xiv) If applicable, the EIS may include footnotes. Footnotes include the title, author, date of document, and page(s) relied upon for sources used.

(5) An EIS may not include any final decisions regarding the Agency/Center's course of action.

(6) The J4E must file the draft EIS with the United States Environmental Protection Agency (EPA) through the e-NEPA electronic filing system at: http://www.epa.gov/oecaerth/nepa/submiteis/index.html. As part of the draft EIS filing process, the EPA will issue an NOA in the FR to open a 45-day comment period for the public, federally recognized tribes, or other interested Federal, state, and local agencies. This starts the official comment period for the draft EIS. The J0XG shall also publish an NOA (Appendix E) in a local daily newspaper on the same day that EPA's NOA is published. DTRA/SCC-WMD should send a press release to local media and, if the EIS is national in scope, to national media outlets. DTRA/SCC-WMD must notify EPA if it approves an extension of the public comment period so that EPA may provide an update in its FR notice. (i) The draft EIS should be available at local libraries or similar public depositories. Material used in developing or referenced in the draft EIS must be available for review at the appropriate DTRA/SCC-WMD office(s) or at a designated location. Upon request, copies of the draft EIS must be made available to the public without charge to the extent practical or at a reduced charge, which is not more than the actual cost of reproducing copies. The draft EIS may also be placed on the Internet and/or copies may be made available in digital form. (ii) The J0XG should use the following standard language in press releases and notices announcing the draft EIS's availability for comment and any public meetings or hearing(s) associated with the proposed project: DTRA/SCC-WMD encourages all interested parties to provide comments concerning the scope and content of the draft EIS. Comments should be as specific as possible and address the analysis of potential environmental impacts and the adequacy of the proposed action or merits of alternatives and the mitigation being considered. Reviewers should organize their participation so that it is meaningful and makes the agency aware of the reviewer's interests and concerns using quotations and other specific references to the text of the draft EIS and related documents. Matters that could have been raised with specificity during the comment period on the draft EIS may not be considered if they are raised for the first time later in the decision process. This commenting procedure is intended to ensure that substantive comments and concerns are made available to DTRA/SCC-WMD in a timely manner so that DTRA/SCC-WMD has an opportunity to address them. Before including your address, phone number, email address, or other personal identifying information in your comment, be advised that your entire comment—including your personal identifying information—may be made publicly available at any time. While you can ask us in your comment to withhold from public review your personal identifying information, we cannot guarantee that we will be able to do so.

(7) DTRA/SCC-WMD should hold public meetings or hearings on the draft EIS, when appropriate. If DTRA/SCC-WMD conducts a public meeting or hearing for the purpose of obtaining public comment on a draft EIS, DTRA/SCC-WMD should ensure that the draft document is available for public review at least 15 days before the event occurs. (i) The Project/Program Manager must request comments on the draft EIS from appropriate Federal, state, and local agencies and from tribes when the impacts may be on a reservation or affect tribal interests. (ii) Draft EISs must be coordinated with the appropriate regional offices of other Federal agencies having jurisdiction by law or special expertise, appropriate state and local agencies including cooperating agencies, affected cities and counties, and others known to have an interest in the action, and appropriate tribal governments when the impacts may affect tribal interests.

(8) After closure of the comment period, the Project/Program Manager and the J4E will adjudicate the comments received by considering the input or concern and documenting a response, update the EIS as necessary, and complete an ROD (found in Appendix F) or terminate the proposed action. (i) DTRA/SCC-WMD must take into consideration all comments received on the draft EIS and comments recorded during public meetings or hearings, and respond to the substantive comments in the final EIS. All substantive comments received on the draft EIS (or summaries where the comments are voluminous) must be attached to the final EIS. Comments must be responded to in one or more of the following ways: (A) Written into the text of the final EIS; (B) Stated in an errata sheet attached to the final EIS; or (C) Included or summarized and responded to in an attachment to the final EIS, and if voluminous, may be compiled in a separate supplemental volume for reference. (ii) DTRA/SCC-WMD may, subject to the conditions set forth below, attach errata sheets to the draft EIS. If the modifications to the draft EIS in response to comments are minor and are confined to factual corrections or explanations of why the comments do not warrant additional agency response, then only the comments, responses, and errata sheets need to be circulated and the draft EIS and errata sheets may be filed as the final EIS as set out in 40 CFR1503.4(c). Use of errata sheets is subject to the condition that the errata sheets: (A) Cite the sources, authorities, or reasons that support the position of DTRA/SCC-WMD; and (B) If appropriate, indicate the circumstances that would trigger agency reappraisal or further response.

(9) The cover page or summary of the final EIS or a draft EIS with errata sheets in lieu of a final EIS must include the following declaration language below. After careful and thorough consideration of the information contained herein and following consideration of the views of those Federal agencies having jurisdiction by law or special expertise with respect to the environmental impacts described, the undersigned finds that the proposed Federal action is consistent with existing national environmental policies and objectives as set forth in Section 101(a) of the National Environmental Policy Act of 1969.

(10) Other required environmental findings and conclusions must be included in the summary, if not included in the body or at the end of the EIS.

(11) The final EIS must be reviewed and approved by the Project/Program Manager and the J4E prior to generating an ROD.

(12) The J4E will file the final EIS with the EPA through the e-NEPA electronic filing system at: http://www.epa.gov/oecaerth/nepa/submiteis/index.html. The EPA will issue an NOA for the final EIS in the FR. The Project/Program Manager may request that the J0XG also publish a more detailed availability notice in the FR, but the DTRA/SCC-WMD notice cannot be substituted for the EPA FR notice. The final EIS must be sent to: (i) The appropriate regional office of EPA; (ii) Any relevant DoD officials; (iii) Each Federal, state, and local agency, tribe, and private organization that made substantive comments on the draft EIS and to individuals who requested a copy of the final EIS or who made substantive comments on the draft EIS (one copy each); (iv) DOE headquarters for projects having major energy-related consequences (one copy); and (v) The appropriate state-designated single point of contact (or specific agency contacts when states have not designated a single contact point), unless otherwise designated by the governor (adequate number of copies, which varies by state). (vi) Additional copies must be sent to accessible locations to be made available to the general public such as state, metropolitan, and local public libraries to facilitate accessibility. The final EIS, comments received, and supporting documents must be made available to the public without charge to the fullest extent practical or at a reduced charge, which is not more than the actual cost of reproducing copies, at appropriate agency office(s) or at a designated location.

(13) DTRA/SCC-WMD must wait a minimum of 30 days after the EPA NOA of the final EIS is published in the FR (and at least 90 days after filing of the draft EIS) before making a decision on the proposed action and issuing an ROD. The 30-day period provides time for the decision-maker to consider the final EIS and other pertinent information and make a decision; it is not for receiving public comments unless DTRA/SCC-WMD requests comments on the final EIS. At the conclusion of the 30-day waiting period, the J0 may issue the final decision in an ROD and implementation of the selected action may begin. (i) When DTRA/SCC-WMD is the lead Federal agency, the EPA, upon a showing by another Federal agency of compelling reasons of national policy, may extend prescribed periods up to 30 days, but no longer than 30 days without the permission of DTRA/SCC-WMD. The Project/Program Manager may also extend the waiting period or request the EPA to reduce this period for compelling reasons of national policy. The 90-day waiting period after the NOA of the draft EIS cannot be altered by the EPA. (ii) If DTRA/SCC-WMD unilaterally approves an overall extension of a comment period, the EPA must be notified so that the EPA may provide an update in its FR notice.

(14) Under certain circumstances, DTRA/SCC-WMD may choose to terminate an EIS. This could occur, for example, when a proponent has decided not to go forward with the action or it is determined to be no longer needed. DTRA/SCC-WMD may also terminate an EIS and revert to an EA if the environmental analysis shows that there would not be significant impacts from the project. DTRA/SCC-WMD will provide notice of the determination to no longer conduct an EIS that is issued in a manner comparable to the publication and distribution used for the NOI to prepare the EIS. The notice should cite the date of the original NOI to prepare an EIS and state the reasons why DTRA/SCC-WMD has chosen to terminate the EIS.

(f) Record of Decision (ROD)

(1) The ROD (Appendix F) will state DTRA/SCC-WMD's final decision on which action will be taken. The ROD may be prepared after the time periods outlined in the EIS section above. The Project/Program Manager and the J4E must provide concurrence on the ROD before submitting to the J0 for approval. Supplements to final EISs may be necessary (see Section (7)(b) Supplemental EAs/EISs) and must be reviewed and approved in the same manner as the original document, and a new draft ROD should be prepared, circulated, and approved. (i) DTRA/SCC-WMD may select any alternative within the range of alternatives analyzed in the final EIS. The selected alternative may be an alternative other than the agency's preferred alternative or the environmentally-preferred alternative. The selected action may not be implemented until the J0 has approved and signed the ROD. (ii) If DTRA/SCC-WMD selects an alternative other than the preferred alternative in the final EIS that involves special purpose laws and requirements, such as those related to Section 4(f) land, federally listed endangered species, wetlands, or historic sites, the Agency must first complete any required permit, evaluation, consultation, or other approval requirement prior to taking the action.

(2) DTRA/SCC-WMD must provide public notice of availability of the ROD through appropriate means as required by 40 CFR 1506.6(b). Such means may include publication in the FR, other media, and on the Internet, although publication in the FR is only required for actions with effects of national concern.

(3) The ROD must: (i) Present DTRA/SCC-WMD's decision on the proposed action, and identify and discuss all factors, including any essential considerations of national policy, that were balanced by the Agency in making its decision and state how those considerations entered into the decision; (ii) Identify all alternatives DTRA/SCC-WMD considered and which alternative(s) is/are considered to be environmentally-preferable. DTRA/SCC-WMD may discuss preferences among alternatives based on relevant factors including economic and technical considerations, and agency statutory missions; (iii) Identify any mitigation measure(s) committed to as part of the decision and summarize any applicable mitigation monitoring and enforcement program. This must include any mitigation measure that was committed to as a condition of the approval of the final EIS; (iv) State whether all practicable means to avoid or minimize environmental harm from the selected alternatives have been adopted, and if not, why; and (v) Include any findings required by Executive Order, regulation, or special purpose law or requirement (e.g., wetlands, Section 4(f), etc.).

(4) As necessary, the ROD can be used to clarify and respond to issues raised on the final EIS when those issues do not require supplementation of the final EIS.

(5) If the ROD is prepared following adoption of all or part of another agency's NEPA document (see Section (7)(c) Adoption of EAs/EISs), the ROD must incorporate by reference the part(s) of the document being adopted and include documentation of DTRA/SCC-WMD's independent evaluation of the document.

(6) The ROD must be signed by the J0 or delegated authority and posted with the EIS on the DTRA/SCC-WMD public Web site by the J0XG.

(7) The action must proceed no less than 30 days after the EPA has published the NOA for the final EIS (see paragraph (5)(e)(13)).

6. Mitigation and Monitoring

(a) DTRA/SCC-WMD must indicate whether mitigation measures will be implemented for the action selected in either a FONSI or ROD, the commitments the Agency/Center considered and selected, and who will be responsible for implementing, funding, and monitoring the mitigation measures.

(b) If the J4E and the Project Manager or other decision-maker for the project/program determine that a mitigation measure stipulated in a FONSI has not been implemented or the implemented mitigation is failing to mitigate environmental impacts as predicted, and as a result a significant impact may occur, the J4E and the Project Manager or other decision-maker for the project/program must initiate the EIS process by issuing an NOI to prepare an EIS if there remains discretionary DTRA/SCC-WMD action to be taken related to the project.

(c) When possible, the Project/Program Manager should include the cost of mitigation as a line item in the budget for a proposed project/program. DTRA/SCC-WMD ensures implementation of such mitigation measures through memorandums of agreement, funding agreements, contract specifications, directives, other review or implementation procedures, and other appropriate follow-up actions.

(d) DTRA/SCC-WMD may “mitigate to insignificance” potentially significant environmental impacts found during preparation of an EA instead of preparing an EIS. The FONSI will include these mitigation measures, which must be implemented simultaneously with the project/program action (see Sections 5(d)(i)-(iii)).

(e) Mitigation includes: (1) Avoiding the impact altogether by not taking a certain action or parts of an action. (2) Minimizing impacts by limiting the degree or magnitude of the action and its implementation. (3) Rectifying the impact by repairing, rehabilitating, or restoring the affected environment. (4) Reducing or eliminating the impact over time by preservation and maintenance operation during the life of the action. (5) Compensating for the impact by replacing or providing substitute resources or environments.

7. Subsequent Analyses

(a) Tiering and Programmatic Review

(1) A programmatic review may assist decision-makers and the public in understanding the environmental impact from proposed broad federal actions and activities. A programmatic EIS or EA may be prepared to cover: (i) A broad group of related actions; or (ii) A program, policy, plan, system, or national level proposal that may later lead to individual actions, requiring subsequent NEPA analysis.

(2) A programmatic document is useful in analyzing the cumulative impacts of a group of related actions and when the proposed actions are adequately analyzed can serve as the NEPA review for those actions. Programmatic documents may also be useful in providing the basis for subsequent project-level specific environmental review. A programmatic EIS or EA may contain a broader, less specific, analysis than is done for a specific proposed project. If a programmatic EIS or EA is prepared, DTRA/SCC-WMD will determine whether project-specific EISs or EAs are needed for individual actions. Broad Federal actions analyzed in a programmatic EIS or EA may be evaluated geographically, generically, or by stage of technological development.

(3) The use of a programmatic EIS or EA, and subsequent preparation of a project-specific EIS or EA is referred to as “tiering” the environmental review. Tiering can also be used to sequence environmental documents from the early stage of a proposed action (e.g., need for the action and site selection) to a subsequent stage (e.g., proposed construction) to help focus on issues that are ripe for decision and exclude from consideration issues not yet ripe or already decided. When this approach is used, DTRA/SCC-WMD must ensure that the proposed action is not being segmented by describing the independent utility of each stage. Programmatic and tiered EISs and EAs are subject to the same preparation and processing requirements as other EISs and EAs.

(4) When a programmatic EIS or EA has been prepared, any subsequent EIS or EA for proposed projects within the scope of the programmatic document only needs to incorporate it by reference by summarizing the issues discussed in the programmatic document, providing access to the programmatic EIS or EA, and concentrating the subsequent project-specific EIS or EA on site-specific impacts not covered by the programmatic document. The project-specific document must state how to obtain a copy of the earlier programmatic document (i.e., a Web page or contact person/office).

(b) Supplemental EAs/EISs

(1) Project/Program Managers must prepare a supplemental EA, draft EIS, or final EIS if either of the following occurs: (i) There are substantial changes to the proposed action that are relevant to environmental concerns; or (ii) There are significant new circumstances or information relevant to environmental concerns and bearing on the proposed action or its impacts.

(2) Significant information is information that paints a dramatically different picture of impacts compared to the description of impacts in the EA or EIS. DTRA/SCC-WMD may also prepare supplements when the purposes of NEPA will be furthered by doing so.

(3) Supplemental documents must be prepared following the same general process as the original EA or EIS addressing the new circumstances, information, or actions and incorporating by reference and summary the original EA or EIS. No new scoping is required for a supplemental EIS, but may be conducted at the discretion of the Project/Program Manager or the Director, J4E.

(4) When a supplemental EA or EIS is completed, a new FONSI or ROD must be issued and made available to the public.

(c) Adoption of EAs/EISs

(1) DTRA/SCC-WMD may adopt in whole or in part, another Federal agency's draft or final EA, the EA portion of another agency's EA/FONSI, or EIS in accordance with 40 CFR 1506.3 and CEQ Guidance, “Improving the Process for Preparing Efficient and Timely Environmental Reviews under the National Environmental Policy Act,” March 6, 2012, where DTRA/SCC-WMD's proposed action is substantially the same as the action described in the existing EA or EIS. When another agency's NEPA document does not adequately address DTRA/SCC-WMD's proposed action or meet the applicable standards in the CEQ Regulations and these implementing procedures, then DTRA/SCC-WMD cannot adopt the EA or EIS and should consider which portions of that EA or EIS can be incorporated by reference.

(2) The Project/Program Manager and J4E will independently review the EA or EIS and determine whether it is current, satisfies the requirements of NEPA, and covers the proposed action. In adopting all or part of another agency's NEPA document, DTRA/SCC-WMD takes full responsibility for the scope and content that addresses the relevant DTRA/SCC-WMD action(s).

(3) If the actions covered by the original NEPA analysis and the DTRA/SCC-WMD proposed action are substantially the same, DTRA/SCC-WMD may reissue the EA or EIS as a final document and prepare its own FONSI or ROD. The EA or EIS will be recirculated and a public comment period will be provided per Section 5(e) above. When DTRA/SCC-WMD adopts an EA or EIS where it has acted as a cooperating agency and its comments and suggestions have been satisfied by the lead agency in the original document, then coordination with the public is not required.

8. Actions on Host Installations/Actions Abroad

(a) Actions on Host Installations

DTRA/SCC-WMD must comply with the host installation NEPA implementing regulations, procedures, and guidance in addition to those set forth in this guide, and all environmental compliance actions must be coordinated with the appropriate host installation point of contact. Equivalent host installation documentation may be used to satisfy DTRA/SCC-WMD documentation requirements when signed and approved by DTRA/SCC-WMD and maintained in its administrative record.

(b) Actions Occurring Abroad

(1) Executive Order 12114 is based on the authority vested in the President by the Constitution and the laws of the United States. The objective of the Executive Order is to further foreign policy and national security interests while at the same time taking into consideration important environmental concerns. DTRA/SCC-WMD acts with care in the global commons because the stewardship of these areas is shared by all the nations of the world. DTRA/SCC-WMD will take account of environmental considerations when it acts in the global commons in accordance with these procedures.

(2) DTRA/SCC-WMD also acts with care within the jurisdiction of a foreign nation. Treaty obligations and the sovereignty of other nations must be respected, and restraint must be exercised in applying United States laws within foreign nations unless the Congress has expressly provided otherwise. DTRA/SCC-WMD will take account of environmental considerations in accordance with these procedures when it acts in a foreign nation.

(3) Foreign policy considerations require coordination with the Department of State on communications with foreign governments concerning environmental agreements and other formal arrangements with foreign governments concerning environmental matters. Informal working-level communications and arrangements are not included in this coordination requirement. Consultation with the Department of State also is required in connection with the utilization of additional exemptions from these procedures.

(4) Executive Order 12114, implemented by these procedures, prescribes the exclusive and complete procedural measures and other actions to be taken by DTRA/SCC-WMD to further the purpose of the National Environmental Policy Act with respect to the environment outside the United States. As such, actions with potential for significant environmental impact occurring abroad or in the global commons outside the jurisdiction of any nation (e.g., the ocean or Antarctica) are subject to the environmental analysis procedures set forth in this Guide with the exception of hosting public meetings. Project/Program Managers may choose to host public meetings in consideration of the following factors: (i) Foreign relations sensitivities. (ii) Whether the hearings would be an infringement or create the appearance of infringement on the sovereign responsibilities of another government. (iii) Requirements of domestic and foreign governmental confidentiality. (iv) Requirements of national security. (v) Whether meaningful information could be obtained through hearings; (vi) Time considerations. (vii) Requirements for commercial confidentiality.

(5) Consideration will be given to whether any foreign government should be informed of the availability of environmental documents. Communications with foreign governments concerning environmental agreements and other formal arrangements with foreign governments concerning environmental matters must be coordinated by the J0XG with the Department of State through the Assistant Secretary of Defense (International Security Affairs).

9. Classified Actions

(a) Classification of an action for national security does not relieve DTRA/SCC-WMD from the requirements of NEPA. DTRA/SCC-WMD will prepare, safeguard, and disseminate NEPA documents in accordance with DoD requirements for classified information.

(b) Classified information in NEPA documents will be written in a separate appendix from unclassified information so that the unclassified portions of the documents can be made available to the public.

(c) When classified information is an integral part of the analysis so that a meaningful unclassified NEPA analysis cannot be produced, the Project/Program Manager in coordination with the J4E will form a team to review the classified NEPA analysis. This team will include environmental professionals and subject matter experts who will ensure the consideration of environmental effects is consistent with the intent of NEPA, including public participation requirements for unclassified portions.

10. Administrative Record

(a) The J4E will maintain an administrative record for each environmental analysis performed and an administrative record to support these implementing procedures.

(b) The administrative record for a proposed action must be retained for 7 years after completing the action, unless the action involves controversy concerning environmental effects or is of a nature that warrants keeping it longer as determined by the J4E.

(c) The administrative records maintained will include, but are not limited to: (1) All supporting documentation used to generate DTRA/SCC-WMD's NEPA implementing procedures and CATEXs. (2) All supporting documentation and information used to make a decision for Agency actions with potential for significant environmental impact. (3) Maps and other documents relevant to developing an EA or EIS. (4) Formal communication by a consulting, coordinating, or cooperating agency. (5) Studies and inventories of affected environmental resources. (6) Correspondence with regulatory agencies, private citizens, tribes, State or local governments, and other individuals and agencies contacted during public involvement.

11. Glossary

(a) Abbreviations and Acronyms

CATEX Categorical Exclusion

CEQ Council on Environmental Quality

DoD Department of Defense

DTRA/SCC-WMD Defense Threat Reduction Agency and United States Strategic Command Center for Combating Weapons of Mass Destruction

EA Environmental Assessment

EIS Environmental Impact Statement

EPA Environmental Protection Agency

ESOH Environment, Safety, and Occupational Health

FIRS Federal Information Relay Service

FONSI Finding of No Significant Impact

FR Federal Register

JO Director, DTRA/SCC-WMD

JOGC Office of the General Counsel

JOXG Governmental and Public Affairs Office

J4/8 Acquisition, Finance, and Logistics Directorate

J4E Environment, Safety, and Occupational Health Department

JDIR Joint Director

NEPA National Environmental Policy Act

NOA Notice of Availability

NOI Notice of Intent

REC Record of Environmental Consideration

ROD Record of Decision

TDD telecommunication devices for the deaf

(b) Definitions

Unless otherwise noted, these terms and their definitions are for the purpose of this NEPA Procedures Guide. The definitions in 40 CFR parts 1500-1508 control in the event of any inconsistency or difference.

CATEX. A CATEX is defined at 40 CFR 1508.4 as a category of actions which do not individually or cumulatively have a significant effect on the human environment and which have been found to have no such effect in Federal agency NEPA implementing procedures and, therefore, neither an EA nor an EIS is required. This Guide provides for extraordinary circumstances in which an action that is normally categorically excluded may have a significant effect and therefore merit further analysis in an EA or EIS.

Cooperating agency. A cooperating agency, defined at 40 CFR 1508.5, is any Federal agency or State, tribal, or local governmental entity which has jurisdiction by law or special expertise with respect to any environmental impact involved in a proposed action or a reasonable alternative. The selection and responsibilities of a cooperating agency are described at 40 CFR 1501.6.

EA. An EA, defined at 40 CFR 1508.9, is a concise public document for which a Federal agency is responsible that serves to: (1) Briefly provide sufficient evidence and analysis for determining whether to prepare an EIS or a FONSI; and (2) aid an agency's compliance with NEPA when no environmental impact is necessary. An EA includes an evaluation of whether a project's potential environmental impacts may be significant. Includes an evaluation of the No Action Alternative and other alternatives to the proposed project, and results in either a FONSI or an NOI.

EIS. An EIS, defined at 40 CFR 1508.11, is a detailed written evaluation of the potential environmental impacts and socioeconomic impacts of a proposed action (project), including an evaluation of the No Action Alternative and other alternatives to the proposed project. The EIS identifies mitigation measures needed to address adverse environmental impacts.

Environmental planning. The process of identifying and considering environmental factors that impact on, or are impacted by, planned DoD activities and operations.

FONSI. A FONSI, defined at 40 CFR 1508.13, is a document briefly presenting the reasons why the proposed action, based on the EA findings, will not have a significant effect on the human environment and therefore an EIS is not required.

Impact. Any change to the environment wholly or partially resulting from an organization's activities, products, or services. Impact is synonymous with effect as defined at 40 CFR 1508.7 and 8.

NEPA. The National Environmental Policy Act (NEPA) [42 U.S.C. 4321 et seq.] establishes national environmental policy and goals for the protection, maintenance, and enhancement of the environment and provides a process for implementing these goals within Federal agencies. NEPA also established the Council on Environmental Quality.

NOA. A notice of availability is a document notifying the public and other government agencies that an EA or an EIS is available for review.

NOI. A notice of intent, as defined at 40 CFR 1508.22, is a notice that an EIS will be prepared and considered. This notice includes a description of the proposed action and possible alternatives, a description of the agency's proposed scoping process, and the name and address of an agency representative who can answer questions about the proposed action and the EIS.

Proponent. The organization that exercises primary management responsibility for a proposed action or activity.

REC. Document stating that the proposed action (project) does not require further NEPA documentation.

Appendix A: The NEPA Process

BILLING CODE 5001-06-P

BILLING CODE 5001-06-C

Appendix B: Categorical Exclusions (CATEXS)

This Appendix includes categorical exclusions (CATEXs) and extraordinary circumstances for DTRA/SCC-WMD activities.

Actions categorically excluded in the absence of extraordinary circumstances are:

1. Normal personnel, fiscal or budgeting, and administrative activities and decisions, including those involving military and civilian personnel (for example, recruiting, processing, data collection, conducting surveys, payroll, and record keeping).

2. Preparing, revising, or adopting regulations, instructions, directives, or guidance documents, including those that implement without substantial change to the regulations, instructions, directives, or guidance documents from higher headquarters or other Federal agencies.

3. Decreases, increases, relocation, and realignment of personnel into existing Federally-owned or commercially-leased space that does not involve a substantial change affecting the supporting infrastructure or use of space (e.g., no increase in traffic beyond the capacity of the supporting network to accommodate such an increase).

4. Routine procurement of goods and services conducted in accordance with applicable procurement regulations and green purchasing requirements including office supplies, equipment, mobile assets, and utility services for routine administration, operation, and maintenance.

5. Administrative study efforts involving no commitment of resources other than personnel and funding allocations. If any of these study efforts result in proposals for further action, those proposals must be considered separately by an appropriate CATEX or NEPA analysis. Examples include, but are not limited to: Studies and surveys conducted to further administrative, personnel-related, architectural, engineering, safety, security, siting, and facility audit activities.

6. Studies, monitoring, data and sample collection, and information gathering that involve no permanent physical change to the environment. If any of these activities result in proposals for further action, those proposals must be considered by an appropriate CATEX or NEPA analysis. Examples include, but are not limited to: Surveys for threatened and endangered species, wildlife and wildlife habitat, historic properties, and archeological sites; wetland delineations; minimal water, air, waste; material and soil sampling (e.g., grab samples). Environmental Baseline Surveys or Environmental Condition of Property Surveys. Topographical surveying and mapping that does not require cutting and/or removal of trees.

7. Sampling, borehole drilling, well drilling and installation, analytical testing, site preparation, and minimally intrusive physical testing. These activities could involve minor clearing, grubbing, or movement of heavy equipment such as drill rigs. If any of these actions result in proposals for further actions, those proposals must be considered by an appropriate CATEX or NEPA analysis. Examples include, but are not limited to: Sampling for asbestos-containing materials, polychlorinated biphenyls, and lead-based paint. Topographical surveys and surveys for unexploded ordnance. Minimally-intrusive (no more than 25 square feet of disturbed surface area) geological, geophysical surveys, geo-technical activities, and seismic studies. Minimally-intrusive sampling to determine if hazardous wastes, contaminants, pollutants, or special hazards are present. Ground water monitoring wells, subsurface soil sampling, and soil borings.

8. Immediate responses to the release or discharge of oil or hazardous materials in accordance with an approved Spill Prevention, Control and Countermeasure Plan or Spill Contingency Plan, or that is otherwise consistent with the requirements of the EPA National Contingency Plan.

9. Temporary use of transportable power generators or operational support equipment when located in a previously disturbed area and when operated in compliance with applicable regulatory requirements.

10. Routine movement, handling, use, and distribution of materials, including hazardous materials or wastes that are moved, handled, or distributed in accordance with applicable regulations, such as Resource Conservation and Recovery Act, National Oil and Hazardous Substance Pollution Contingency Plan, Occupational Safety and Health Act, and Hazardous Materials Transportation Act.

11. Routine movement of mobile test assets (such as instrument trailers, cameras, portable antennas, etc.) for routine test and evaluation, for repair, overhaul, or maintenance where no new support facilities are required.

12. Activities and operations to be conducted in an existing non-historic structure which are within the scope of and are compatible with the present functional use of the building, will not result in a substantial increase in waste discharged to the environment, will not result in substantially different waste discharges from current or previous activities, and emissions will remain within established permit limits, if any.

13. Acquisition, installation, modification, routine repair and replacement, and operation of utility (e.g., water, sewer, and electrical) and communication systems, mobile antennas, data processing cable, and similar electronic equipment that use existing rights-of-way, easements, distribution systems, facilities, or previously disturbed land.

14. Acquisition, installation, or minor relocation, operation and maintenance or evaluation of physical security devices or controls to protect human or animal life and to enhance the physical security of existing critical assets in compliance with applicable Federal, tribal, state, and local requirements to protect the environment. Examples include, but are not limited to: Motion detection systems. Lighting. Remote video surveillance systems. Access controls. Physical barriers, fences, grating, on or adjacent to existing facilities.

15. Installation and maintenance of archaeological, historical, and endangered or threatened species avoidance markers, fencing, and signs.

16. Road or trail construction and repair on existing rights-of-ways or in previously disturbed areas which do not result in a change in functional use. Runoff, erosion, and sedimentation controlled through implementation of best management practices.

17. Routine repair and maintenance of buildings, grounds, and other facilities and equipment which do not result in a change in functional use or a significant impact on a historically significant element or setting. Examples include, but are not limited to: Repair of roofs, doors, windows, or fixtures, localized pest management, and minor erosion control measures.

18. New construction or equipment installation or alterations (interior and exterior) to or construction of an addition to an existing structure that is similar to existing land use if the area to be disturbed has no more than five cumulative acres of new surface disturbance.

19. Demolition of non-historic buildings, structures, or other improvements and repairs that result in disposal of debris there-from, or removal of a part thereof for disposal, in accordance with applicable regulations, including those regulations applying to removal of asbestos containing materials, polychlorinated biphenyls, lead-based paint, and other special hazard items.

20. Research, testing, and operations conducted at existing facilities (including contractor-operated laboratories and plants) and in compliance with all applicable safety, environmental, and natural conservation laws (because of these controls, these types of activities have little potential for significant environmental impacts). Examples include, but are not limited to: Nuclear weapons effects simulators, weapons performance measurement, wind tunnels, high energy lasers, remote sensing instruments, vacuum chambers, high altitude simulator facilities, and propellant testing facilities.

21. Routine installation and use of radars, cameras, communications equipment, and other essentially similar facilities and equipment within a launch facility, mobile platform, military installation, training area, or previously disturbed area that conform to current American National Standards Institute/Institute of Electrical and Electronics Engineers guidelines, Federal Communications Commission Radio Frequency Exposure Limits 1.1310, and Electric and Magnetic Fields Exposure Directive 99/519/EC for maximum permissible exposure to electromagnetic fields.

22. Routine law and order activities performed by military personnel, military police, or other security personnel, including physical plant protection and security.

Extraordinary circumstances that preclude the use of a CATEX are:

1. A reasonable likelihood of significant impact on public health or safety.

2. A reasonable likelihood of significant environmental effects (direct, indirect, and cumulative).

3. A reasonable likelihood of involving effects on the environment that involve risks that are highly uncertain, unique, or are scientifically controversial.

4. A reasonable likelihood of violating any Executive Order, or Federal, state, or local law or requirements imposed for the protection of the environment.

5. A reasonable likelihood of adversely affecting “environmentally sensitive” resources, unless the impact has been resolved through another environmental process (e.g., Coastal Zone Management Act, National Historic Preservation Act, Clean Water Act, etc.) a CATEX cannot be used. Environmentally sensitive resources include: a. Proposed federally listed, threatened, or endangered species or their designated critical habitats. b. Properties listed or eligible for listing on the National Register of Historic Places. c. Areas having special designation or recognition such as prime or unique agricultural lands; coastal zones; designated wilderness or wilderness study areas; wild and scenic rivers; National Historic Landmarks (designated by the Secretary of the Interior); floodplains; wetlands; sole source aquifers (potential sources of drinking water); National Wildlife Refuges; National Parks; areas of critical environmental concern; or other areas of high environmental sensitivity. d. Cultural, scientific or historic resources.

6. A reasonable likelihood of dividing or disrupting an established community or planned development, or is inconsistent with existing community goals or plans.

7. A reasonable likelihood of causing an increase in surface transportation congestion that will decrease the level of service below acceptable levels.

8. A reasonable likelihood of adversely impacting air quality or violating federal, state, local or tribal air quality standards under the Clean Air Act Amendments of 1990.

9. A reasonable likelihood of adversely impacting water quality, sole source aquifers, public water supply systems or state, local, or tribal water quality standards established under the Clean Water Act and the Safe Drinking Water Act.

10. A reasonable likelihood of effects on the quality of the environment that are highly controversial on environmental grounds. The term “controversial” means a substantial dispute exists as to the size, nature, or effect of the proposed action rather than to the existence of opposition to a proposed action, the effect of which is relatively undisputed.

11. A reasonable likelihood of a disproportionately high and adverse effect on low income or minority populations (see Executive Order 12898).

12. Limit access to and ceremonial use of Indian sacred sites on Federal lands by Indian religious practitioners or significantly adversely affect the physical integrity of such sacred sites (see Executive Order 13007).

13. Contribute to the introduction, continued existence, or spread of noxious weeds or non-native invasive species known to occur in the area or actions that may promote the introduction, growth, or expansion of the range of such species (Federal Noxious Weed Control Act and Executive Order 13112).

14. A greater scope or size than is normal for this category of action.

15. A reasonable likelihood of degrading already existing poor environmental conditions. Also, initiation of a degrading influence, activity, or effect in areas not already significantly modified from their natural condition.

16. A precedent (or makes decisions in principle) for future or subsequent actions that have a reasonable likelihood of having a future significant effect.

17. Introduction or employment of unproven technology.

18. A reasonable likelihood of (i) releases of petroleum, oils, and lubricants (except from a properly functioning engine or vehicle) or reportable releases of hazardous or toxic substances as specified in 40 CFR part 302, Designation, Reportable Quantities, and Notification); (ii) application of pesticides and herbicides; (iii) or where the proposed action results in the requirement to develop or amend a Spill Prevention, Control, or Countermeasures Plan.

Appendix C: Record of Environmental Consideration (REC)

DEFENSE THREAT REDUCTION AGENCY/UNITED STATES STRATEGIC COMMAND CENTER FOR COMBATING WEAPONS OF MASS DESTRUCTION (DTRA/SCC-WMD)

RECORD OF ENVIRONMENTAL CONSIDERATION

DATE OF REQUEST:

PROJECT/PROGRAM MANAGER:

PHONE NUMBER:

EMAIL:

ORGANIZATION ADDRESS:

PROJECT TITLE:

PROPOSED PROJECT START DATE:

END DATE:

A. PURPOSE AND NEED FOR ACTION:

B. PROJECT SPECIFIC DETAILS (PROPOSED LOCATION, etc.):

C: LIST OF PREVIOUS NEPA DOCUMENTATION (EA/EIS) FOR THIS OR SIMILAR ACTIVITY

PRINT NAME

SIGNED

[Name of Project/Program Manager]

DATE

J4E ENVIRONMENTAL REVIEW ACTION NOT SUBJECT TO NEPA REQUIREMENTS

PROPOSED ACTION QUALIFIES FOR CATEGORICAL EXCLUSION (CATEX) #

PROPOSED ACTION DOES NOT INVOLVE EXTRAORDINARY CIRCUMSTANCES THAT MERIT REVIEW IN AN EA OR EIS (IDENTIFY ANY ENVIRONMENTAL PROCESS THAT HAS RESOLVED AN IMPACT ARISING FROM AN EXTRAORDINARY CIRCUMSTANCE)

PROPOSED ACTION IS COVERED UNDER EXISTING ENVIRONMENTAL DOCUMENTATION (SPECIFY DOCUMENT AND SECTIONS)

FURTHER ANALYSIS IS REQUIRED

REMARKS:

PRINT NAME

SIGNED

DATE

Director, Environment, Safety, and Occupational Health Department

DTRA/SCC-WMD

8725 John J. Kingman Rd.

Ft. Belvoir, VA 22060

Appendix D: Notice of Intent (NOI)

DEFENSE THREAT REDUCTION AGENCY/UNITED STATES STRATEGIC COMMAND CENTER FOR COMBATING WEAPONS OF MASS DESTRUCTION (DTRA/SCC-WMD)

[Name of Office; Location; Short Title or Subject of the Notice]

ACTION: Notice of intent to prepare an environmental impact statement.

SUMMARY: [Briefly describe the nature and scope of the proposed action. Do not put legal citations or background information in the SUMMARY section; these belong in the SUPPLEMENTARY INFORMATION section.]

DATES: Comments concerning the scope of the analysis must be received by [insert date 30 days from date of publication in the Federal Register].

The draft environmental impact statement is expected [insert estimated month and year] and the final environmental impact statement is expected [insert estimated month and year.]

ADDRESSES: Send written comments to [insert address]. Comments may also be sent via email to [insert email address], or via facsimile to [insert fax number]. [In this section, you also may put additional addresses, locations of meetings, etc. Do not put more than four addresses in this section. If there are more than four pertinent addresses, create a heading for them under the SUPPLEMENTARY INFORMATION section of the notice.]

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered.

FOR FURTHER INFORMATION CONTACT: [insert name(s) and contact information you wish to use, such as telephone number and email address].

Individuals who use telecommunication devices for the deaf (TDD) may call the Federal Information Relay Service (FIRS) at 1-800-877-8339 between 8 a.m. and 8 p.m. Eastern Time, Monday through Friday.

SUPPLEMENTARY INFORMATION:

Purpose and Need for Action

[Describe why DTRA/SCC-WMD is proposing the action: Why here? Why now?]

Proposed Action

[Describe the proposed action. Consider who, what, how, where, and when.]

Possible Alternatives

[Include only if any have been identified (delete heading if not used or request input on any alternatives considered reasonable—including technically and economically feasible—that will meet the purpose and need).]

Lead and Cooperating Agencies

[Include only if there are other agencies to list as joint lead agencies and/or cooperating agencies (delete heading if not used).]

Responsible Official

[Provide the title and address of the official(s) responsible for the proposed action. Use of the responsible official's name is optional.]

Nature of Decision To Be Made

[Describe the framework or scope of the decision(s) to be made by the responsible official(s).]

Preliminary Issues

[Include only if any have been identified (delete heading if not used). To the extent practicable, resolve internal issues before proposing the action.]

Permits or Licenses Required

[Include only if any have been identified (delete heading if not used).]

Addresses

[Include only if all addresses could not be included in the SUMMARY (delete heading if not used).]

Scoping Process

This notice of intent initiates the scoping process, which guides the development of the environmental impact statement. [Describe any other public comment opportunities, including whether, when, and where any scoping meetings will be held. Describe any additional information related to the scoping process and nature of comments being sought.]

[Name]

Date

Chief, Governmental and Public Affairs Office

DTRA/SCC-WMD

Appendix E: Notice of Availability (NOA)

DEFENSE THREAT REDUCTION AGENCY/UNITED STATES STRATEGIC COMMAND CENTER FOR COMBATING WEAPONS OF MASS DESTRUCTION (DTRA/SCC-WMD)

AGENCY: [Office name], DTRA/SCC-WMD, Department of Defense

ACTION: Notice of Availability of the [Draft EA, Final EA and FONSI, Draft EIS, Final EIS, or ROD]

SUMMARY: DTRA/SCC-WMD announces the availability of the [insert type of NEPA document] for a proposed project in [insert location].

DATES: [As applicable, list dates of public scoping meetings, deadlines for comments, etc.]

ADDRESSES: [As applicable, list addresses for public scoping meetings, availability of the document, etc.] The [insert Draft EIS, Final EIS, ROD as appropriate] is also available at [insert project Web site.]

FOR FURTHER INFORMATION CONTACT: [insert name(s) and contact information you wish to use, such as telephone number and email address.]

SUPPLEMENTARY INFORMATION: Effective [Date], the DTRA/SCC-WMD assumed environmental responsibilities for this project. DTRA/SCC-WMD as the agency responsible for the National Environmental Policy Act (NEPA) review has, in cooperation with [insert cooperating agencies], prepared a [insert type of NEPA document] on a proposal for [insert brief description of action] in [location]. [Provide additional details regarding the proposed action, description of the proposed alternatives, length of project, and any anticipated federal approvals, such as permits].

Issued on: [Date signed]

[Name]

Chief, Governmental and Public Affairs Office

DTRA/SCC-WMD

Appendix F: Record of Decision (ROD)

RECORD OF DECISION

[Project Name]

DEFENSE THREAT REDUCTION AGENCY/UNITED STATES STRATEGIC COMMAND CENTER FOR COMBATING WEAPONS OF MASS DESTRUCTION (DTRA/SCC-WMD)

[Project Location]

[County, State]

Decision

Based on my review of the Environmental Impact Statement (EIS), I have decided to implement Alternative [X], which [insert description of selected alternative. Include any permits, licenses, grants, or authorizations needed to implement the decision. Also include any mitigation and monitoring actions related to the decision.]

Background

[Provide a brief description of the purpose and need for action.]

Decision Rationale

[Describe the reasons for the decision. Specifically, discuss the following:

How the selected action/alternative best meets the purpose and need and why other alternatives were not selected.

How significant issues and environmental impacts were considered and taken into account.

Any factors other than environmental effects considered in making the decision.

Discuss how the above factors influenced the decision (are some more important than others?)

State whether all practical means to avoid or minimize environmental harm from the selected alternative have been adopted and if not, why not.]

The [Project Name] EIS documents the analysis and conclusions upon which this decision is based.

Public Involvement

A notice of intent to prepare an EIS was published in the Federal Register on [date] ([Cite Federal Register volume and beginning page number (i.e. 73 FR 43084]). People were invited to review and comment on the proposal through [insert public notice methods and dates such as mailings, news releases, phone calls, etc.]. The EIS lists agencies, organizations, and people who received copies on page [X].

The following issues were identified from scoping comments and were used to determine the scope of the analysis. [Briefly describe the significant issues used in the analysis]. A full description of issues significant to the proposed action appears in the EIS on page [X].

A draft EIS was published for review and comment on [date of publication of EPA's notice of availability in the Federal Register].

Alternatives Considered

In addition to the selected alternative, I considered [X] other alternatives, which are discussed below. A more detailed comparison of these alternatives can be found in the EIS on pages [X-X].

Alternative 1—[insert a brief description of the alternative; identify which is considered to be environmentally-preferable.]

Alternative 2—[insert a brief description of the alternative]

[Repeat for each alternative.]

Mitigation

[State (a) which mitigation measures have been adopted; (b) whether all practicable means to avoid or minimize have been adopted, and if not why they were not; and (c) whether monitoring and enforcement programs are adopted, and if so summarize them.]

Implementation Date

[Describe the expected date(s) of implementation].

Contact

For additional information concerning this decision, contact: [contact name, title, office, mailing address, phone number, and email]

Concurrence:

[Name]

Project/Program Manager

Date

Director, J4E

Date

Approval:

Director, DTRA/SCC-WMD

Date

[FR Doc. 2016-21294 Filed 9-2-16; 8:45 am]

BILLING CODE 5001-06-P